DEPARTMENT OF THE INTERIOR

Bureau of Land Management

[LLORW00000 L16100000.DO0000.WBSLXSS073H0000; GP10-0139]

Notice of Public Meeting, Eastern Washington Resource Advisory Council Meeting

AGENCY: Bureau of Land Management, Interior.

ACTION: Notice of public meeting.

SUMMARY: In accordance with the Federal Land Policy and Management Act of 1976 and the Federal Advisory Committee Act of 1972, the U.S. Department of the Interior, Bureau of Land Management (BLM) Eastern Washington Resource Advisory Council (EWRAC) will meet as indicated below.

DATES: Meeting will take place on March 25, 2010, from 10 a.m. to 2 p.m.

ADDRESSES: The meeting will be held at The Potato Commission, 108 S. Interlake Rd., Moses Lake, Washington 98837-2950.

FOR FURTHER INFORMATION CONTACT: BLM Spokane District, 1103 N. Fancher Rd., Spokane Valley, WA 99212, or call (509) 536-1200.

SUPPLEMENTARY INFORMATION: The meeting will be open to the public. It will begin at 10 a.m. and end at 2 p.m. on March 25. Members of the public will have an opportunity to address the EWRAC at 10 a.m. Discussion will focus on the Spokane and San Juan Islands Resource Management Plan.

Robert B. Towne,
Spokane District Manager.

[FR Doc. 2010-4224 Filed 3-1-10; 8:45 am]

BILLING CODE 4310-33-P